DEPARTMENT OF JUSTICE

Office of Community Oriented Policing Services; FY 2001 Notice of Availability of the Finding of No Significant Impact and the Environmental Assessment for the Office of Community Oriented Policing Services' Methamphetamine Law Enforcement Program

AGENCY: Office of Community Oriented Policing Services, Department of Justice.

ACTION: Notice of availability of the finding of no significant impact and the environmental assessment.

SUMMARY: The Department of Justice, Office of Community Oriented Policing Services (“COPS”) announces the availability of the environmental assessment. This assessment, which is available to the public, concludes that the methamphetamine investigation and clandestine laboratory closure activities of the Methamphetamine/Drug Hot Spots Program will not have significant impact on the quality of the human environment.

FOR FURTHER INFORMATION CONTACT: For copies of the Environmental Assessment and the Finding of No Significant Impact, please contact: COPS Grants Administration Division, 1100 Vermont Avenue NW., Washington, DC 20530; Phone: (202) 616-3031 or 1-800-421-6770.

SUPPLEMENTARY INFORMATION:

Overview

In Fiscal Year 2000, the COPS Office collaborated with the Bureau of Justice Assistance and the Drug Enforcement Administration, Department of Justice, to prepare an Environmental Assessment for methamphetamine law enforcement programs, and with specific application for the Methamphetamine/Drug Hot Spots Program. This Environmental Assessment was prepared as required by the Council on Environmental Quality's regulations (40 CFR parts 1500 through 1508), implementing the National Environmental Policy Act of 1969 (42 U.S.C. 4321, et al.). The Methamphetamine/Drug Hot Spots Program addresses a broad array of law enforcement initiatives pertaining to the investigation of methamphetamine trafficking in many heavily impacted areas of the country.

For the purposes of this program, law enforcement may include training of law enforcement officers in methamphetamine-related issues; collection and maintenance of intelligence and information relative to methamphetamine trafficking and traffickers; investigation, arrest and prosecution of producers, traffickers and users of methamphetamine; interdiction and removal of laboratories, finished products, and precursor chemicals and other elements necessary to produce methamphetamine; and preventive efforts to reduce the spread and use of methamphetamine. Individual projects will reflect a concentration on program areas consistent with congressional appropriations language.

Among the many challenges faced by law enforcement agencies in the Methamphetamine/Drug Hot Spots Program will be discovery, interdiction, and dismantling of clandestine drug laboratories. These lab sites, as well as other methamphetamine crime venues, must be comprehensively dealt with in compliance with a variety of health, safety and environmental laws and regulations. The COPS Office requires that recipients, when encountering illegal drug laboratories, use grant funds to effect the proper removal and disposal of hazardous materials located at those laboratories and directly associated sites in accordance with all applicable laws and regulations.

The COPS Office will award grants to State and local criminal justice agencies for the FY 2001 COPS Methamphetamine/Drug Hot Spots Program. The Environmental Assessment concludes that the funding of this program will not have a significant impact on the quality of the human environment. Therefore, an Environmental Impact Statement will not be prepared for the funding of this program.

Dated: April 2, 2001.
Ralph Justus,
Acting Director.

[FR Doc. 01-8910 Filed 4-10-01; 8:45 am]

BILLING CODE 4410-AT-M